FEDERAL MARITIME COMMISSION

Ocean Transportation Intermediary License Reissuances

Notice is hereby given that the following Ocean Transportation Intermediary licenses have been reissued by the Federal Maritime Commission pursuant to section 19 of the Shipping Act of 1984, (46 U.S.C. app. 1718) and the regulations of the Commission pertaining to the licensing of Ocean Transportation Intermediaries, 46 CFR part 515.

License No. | Name/Address | Date reissued
011170F | Sage Freight Systems, Inc. dba Sage Container Lines, 182-30 150th Road, #108, Jamaica, NY 11413 | April 6, 2006.
008404F | Ultimate Media Express Inc., 182-08 149th Avenue, Springfield Gardens, NY 11413 | June 29, 2006.

Peter J. King,
Deputy Director, Bureau of Certification and Licensing.

[FR Doc. E6-15885 Filed 9-26-06; 8:45 am]

BILLING CODE 6730-01-P